DEPARTMENT OF COMMERCE

Foreign-Trade Zones Board

[S-179-2021]

Approval of Subzone Status; Valbruna Stainless, Inc.; Pompton Lakes, New Jersey

On November 19, 2021, the Acting Executive Secretary of the Foreign-Trade Zones (FTZ) Board docketed an application submitted by the Port Authority of New York and New Jersey, grantee of FTZ 49, requesting subzone status subject to the existing activation limit of FTZ 49, on behalf of Valbruna Stainless, Inc., in Pompton Lakes, New Jersey.

The application was processed in accordance with the FTZ Act and Regulations, including notice in the Federal Register inviting public comment (86 FR 67435, November 26, 2021). The FTZ staff examiner reviewed the application and determined that it meets the criteria for approval. Pursuant to the authority delegated to the FTZ Board Executive Secretary (15 CFR Sec. 400.36(f)), the application to establish Subzone 49X was approved on January 31, 2022, subject to the FTZ Act and the Board's regulations, including Section 400.13, and further subject to FTZ 49's 2,000-acre activation limit.

Dated: January 31, 2022.
Andrew McGilvray,
Executive Secretary.

[FR Doc. 2022-02261 Filed 2-2-22; 8:45 am]

BILLING CODE 3510-DS-P